DEPARTMENT OF HOMELAND SECURITY

Office of the Secretary

[Order 2004-001]

Order Governing the Anchorage and Movement of Vessels Into Cuban Territorial Waters

AGENCY: Department of Homeland Security, Office of the Secretary.

ACTION: Notice.

SUMMARY: Under the provisions of 50 U.S.C. 191, whenever the President declares a national emergency to exist by reason of actual or threatened war, insurrection, or invasion, or disturbance or threatened disturbance of the international relations of the United States, the Secretary of Homeland Security (“the Secretary”) may make, subject to the approval of the President, rules and regulations governing the anchorage and movement of any vessel, foreign or domestic, in the territorial waters of the United States. In Proclamation 7757 (69 FR 9515, March 1, 2004), the President expanded the scope of the national emergency and emergency authority declared in Proclamation 6867 (61 FR 8843, March 5, 1996), and authorized and directed the Secretary to make and issue rules and regulations as the Secretary may find appropriate to regulate the anchorage and movement of vessels, and delegated to the Secretary authority to approve such rules and regulations. By order, the Secretary has taken action to implement Proclamation 7757.

SUPPLEMENTARY INFORMATION: The President further directed that all powers and authorities delegated in Proclamation 7757 to the Secretary may be delegated by the Secretary to other officers and agents of the United States Government unless otherwise prohibited by law.

The President authorized the Secretary to make rules and regulations governing the anchorage and movement of any vessel, foreign or domestic, in the territorial waters of the United States, which may be used, or is susceptible of being used, for voyage into Cuban territorial waters and that may create unsafe conditions, or engage in unauthorized transactions, and thereby threaten a disturbance of international relations. Rules and regulations issued pursuant to Proclamation 7757 are effective immediately upon issuance as such rules and regulations involve a foreign affairs function of the United States and thus are not subject to the procedures in 5 U.S.C. 553.

By order, the Secretary has directed and authorized the United States Coast Guard to regulate the anchorage and movement of any vessel, foreign or domestic, in the territorial waters of the United States which may be used, or is susceptible of being used, for voyage into Cuban territorial waters and that may create unsafe conditions, or engage in unauthorized transactions, and thereby threaten a disturbance of international relations. Such regulation will be accomplished according to the provisions of 50 U.S.C. 191, and Presidential Proclamation 7757. The Secretary has authorized the Commandant of the United States Coast Guard, and subject to the direction of the Commandant, Commanders of a Coast Guard Area or District, to exercise all powers and authorities vested in the Secretary by 50 U.S.C. 191, and Presidential Proclamation 7757, including the power to make additional rules and regulations. This authority may be further delegated.

Secretary of Homeland Security Order 2004-001 supersedes Secretary of Transportation Order 96-3-7 (61 FR 9219 (March 1, 1996)).

DATE: Effective June 3, 2004. Secretary of Homeland Security Order 2004-001 will terminate when the national emergency declared by the President in Proclamation 6867, and expanded in scope by Proclamation 7757, terminates. The Office of the Secretary will publish a separate document in the Federal Register announcing termination of this order.

FOR FURTHER INFORMATION CONTACT: Commander John F. Koeppen, Office of Regulations and Administrative Law (G-LRA), U.S. Coast Guard Headquarters, telephone (202) 267-1534.

Dated: June 3, 2004.
Tom Ridge,
Secretary of Homeland Security.

Establishing Regulations Governing the Anchorage and Movement of Vessels Into Cuban Territorial Waters

By the authority vested in me as Secretary of Homeland Security by section 1 of title II of the Act of June 15, 1917 (the Act), as amended (50 U.S.C. 191), sections 877, 888, 1511, and 1512 of Public Law 107-296 (6 U.S.C. 457, 468, 551, 552), and Proclamation 7757, in which the President expanded the scope of the national emergency and emergency authority declared in Proclamation 6867, and delegated certain functions, I hereby order as follows:

Section 1: In furtherance of the purposes of Presidential Proclamation 7757, the Commandant of the United States Coast Guard, and subject to the direction of the Commandant, the Commanders of Coast Guard Areas or Districts (as described by 33 CFR part 3) are directed and authorized to regulate the anchorage and movement of any vessel, foreign or domestic, in the territorial waters of the United States which may be used, or is susceptible of being used, for voyage into Cuban territorial waters and that may create unsafe conditions, or result in unauthorized transactions, and thereby threaten a disturbance of international relations. Such regulation shall be according to the provisions of the Act and Presidential Proclamation 7757. All actions authorized under those authorities, including, but not limited to, inspection of any vessel, foreign or domestic, in the territorial waters of the United States, at any time; and placing guards on any such vessel; taking full possession and control of any such vessel and removing the officers and crew, and all other persons not specifically authorized to go or remain on board the vessel, when necessary to secure the rights and obligations of the United States, are authorized for carrying out the purposes of this Order.

Section 2: While the national emergency and emergency authority declared in Presidential Proclamation 6867 and expanded in scope by Presidential Proclamation 7757 continues to exist, the Commandant of the United States Coast Guard, and subject to the direction of the Commandant, the Commanders of Coast Guard Areas or Districts (as defined by 33 CFR part 3), are delegated and may exercise all powers and authorities vested in the Secretary of Homeland Security by the Act and Presidential Proclamation 7757, including the power to make additional rules and regulations governing the anchorage and movement of any vessel, foreign or domestic, in the territorial waters of the United States.

Section 3: All powers and authorities delegated by this Order to the Commandant of the United States Coast Guard, and subject to the direction of the Commandant, the Commanders of Coast Guard Areas or Districts (as defined by 33 CFR part 3), may be delegated by those officers to appropriate Captains of the Port of the United States Coast Guard unless otherwise prohibited by law.

Section 4: This Order supersedes Secretary of Transportation Order No. 96-3-7.

Dated: June 3, 2004.
Tom Ridge,
Secretary of Homeland Security.

[FR Doc. 04-15589 Filed 7-6-04; 1:25 pm]

BILLING CODE 4910-15-P